POSTAL SERVICE

39 CFR Part 20

International Mail Postal Rates; Proposed Changes

AGENCY: Postal Service.

ACTION: Proposed rule.

SUMMARY: Pursuant to its authority under 39 U.S.C. 407, the Postal Service is proposing changes in international postal rates for International Priority Airmail, International Surface Air Lift, and publishers' periodical mail. As required under the Postal Reorganization Act, the proposed changes will result in international postal rates that do not apportion the costs of the service so as to impair the overall value of the service to the users, are fair and reasonable, and are not unduly or unreasonably discriminatory or preferential.

DATES: Comments on the proposed changes must be received on or before November 15, 2001.

ADDRESSES: Written comments should be sent to the Manager, International Pricing, International Business, U.S. Postal Services, 1735 N. Lynn Street, Arlington, VA 22209-6020. Copies of all written comments will be available for public inspection between 9 a.m. and 4 p.m., Monday through Friday, in International Business, 2nd Floor, 1735 N. Lynn Street, Arlington, VA 22209-6020.

FOR FURTHER INFORMATION CONTACT: Walter J. Grandjean, (703) 292-3579.

SUPPLEMENTARY INFORMATION: The proposed rates for International Priority Airmail (IPA), International Surface Air Lift (ISAL), and publishers' periodicals, shown in the tables herein, are needed by the Postal Service to cover increases in the cost of providing international mail service, including transportation and delivery charges in the destination country. These services are bulk commercial services that are sensitive to changes in cost.

The rates for publishers' periodicals are currently divided into three rate groups: Canada, Mexico, and all other countries. The Postal Service adopted five rate groups for other letter-post mail on January 7, 2001. The Postal Service is proposing to base publishers' periodical rates on these same five rate groups. This enables the Postal Service to establish rates that more closely align with the cost of providing service to particular country groups having similar costs.

The Postal Service is proposing to change only the rates contained herein. No other rates are changed.

Although the Postal Service is exempted by 39 U.S.C. 410(a) from the advance notice requirements of the Administrative Procedure Act regarding proposed rulemaking (5 U.S.C. 553), the Postal Service invites public comment.

The Postal Service proposes to adopt the following rates and to amend the International Mail Manual (IMM), which is incorporated by reference in the Code of Federal Regulations. See 39 CFR 20.1.

List of Subjects in 39 CFR Part 20

Foreign relations, International postal services.

PART 20—[AMENDED]

1. The authority citation for 39 CFR part 20 continues to read as follows:

Authority: 5 U.S.C. 552(a); 39 U.S.C. 401, 404, 407, 408.

2. The International Mail Manual (IMM) will be amended to incorporate the following postage rates:

International Priority Airmail Rates
Rate group | Per piece rate | Drop shipment per pound | Full service per pound
1 (Canada) | $0.28 | $2.60 | $3.60
2 (Mexico) | 0.12 | 4.60 | 5.60
3 | 0.25 | 4.00 | 5.00
4 | 0.25 | 5.50 | 6.50
5 | 0.12 | 4.85 | 5.85
6 | 0.12 | 4.75 | 5.75
7 | 0.12 | 6.25 | 7.25
8 | 0.12 | 7.25 | 8.25
Worldwide | 0.20 | 7.00 | 8.00

International Surface Air Lift Rates
Rate group | Per piece rate | Full service per pound: Regular | Full service per pound: M-bag | Direct shipment per pound: Regular | Direct shipment per pound: M-bag | ISC drop shipment per pound: Regular | ISC drop shipment per pound: M-bag
1 (Canada) | $0.28 | $3.05 | $1.50 | $2.55 | $1.50 | $2.05 | $1.40
2 (Mexico) | 0.12 | 4.35 | 1.60 | 3.85 | 1.60 | 3.35 | 1.50
3 | 0.25 | 3.40 | 1.75 | 2.90 | 1.75 | 2.40 | 1.50
4 | 0.25 | 3.75 | 2.50 | 3.25 | 2.50 | 2.75 | 2.50
5 | 0.12 | 4.65 | 2.25 | 4.15 | 2.25 | 3.65 | 2.00
6 | 0.12 | 4.55 | 2.25 | 4.05 | 2.25 | 3.55 | 2.00
7 | 0.12 | 4.65 | 2.50 | 4.15 | 2.50 | 3.65 | 2.25
8 | 0.12 | 6.50 | 3.25 | 6.00 | 3.25 | 5.50 | 3.00
Note: M-bags are subject to the minimum rate for 11 pounds.

Publishers' Periodical Rates
Weight not over (oz.), | Rate group 1 (Canada) | Rate group 2 (Mexico) | Rate group 3 | Rate group 4 (Australia, Japan, New Zealand) | Rate group 5
1 | $0.45 | $0.60 | $0.60 | $0.60 | $0.60
2 | 0.51 | 0.75 | 0.71 | 0.71 | 0.74
3 | 0.57 | 0.90 | 0.82 | 0.82 | 0.88
4 | 0.63 | 1.05 | 0.93 | 0.93 | 1.02
5 | 0.69 | 1.20 | 1.04 | 1.04 | 1.16
6 | 0.75 | 1.35 | 1.15 | 1.15 | 1.30
7 | 0.81 | 1.50 | 1.26 | 1.26 | 1.44
8 | 0.87 | 1.65 | 1.37 | 1.37 | 1.58
12 | 1.15 | 2.13 | 1.81 | 1.81 | 2.02
16 | 1.43 | 2.61 | 2.25 | 2.25 | 2.46
20 | 1.59 | 3.09 | 2.69 | 2.69 | 2.90
24 | 1.75 | 3.57 | 3.13 | 3.13 | 3.34
28 | 1.91 | 4.05 | 3.57 | 3.57 | 3.78
32 | 2.07 | 4.53 | 4.01 | 4.01 | 4.22
36 | 3.87 | 5.01 | 4.45 | 4.45 | 4.66
40 | 3.99 | 5.49 | 4.89 | 4.89 | 5.10
44 | 4.11 | 5.97 | 5.33 | 5.33 | 5.54
48 | 4.23 | 6.45 | 5.77 | 5.77 | 5.98
52 | 4.39 | 6.93 | 6.21 | 6.21 | 6.42
56 | 4.55 | 7.41 | 6.65 | 6.65 | 6.86
60 | 4.71 | 7.89 | 7.09 | 7.09 | 7.30
64 | 4.87 | 8.37 | 7.53 | 7.53 | 7.74
$0.25 per pound discount for drop shipments tendered at the New Jersey International and Bulk Mail Center.

Country Rate Groups
Country | Rate groups: IPA | Rate groups: ISAL | Rate groups: Publishers' periodicals
Afghanistan | 8 |  | 5
Albania | 5 | 5 | 5
Algeria | 8 | 8 | 5
Andorra | 3 |  | 3
Angola | 8 | 8 | 5
Anguilla | 6 |  | 5
Antigua and Barbuda | 6 |  | 5
Argentina | 6 | 6 | 5
Armenia | 8 |  | 5
Aruba | 6 | 6 | 5
Ascension | 5 |  | 5
Australia | 4 | 4 | 4
Austria | 3 | 3 | 5
Azerbaijan | 8 |  | 5
Bahamas | 6 |  | 5
Bahrain | 8 | 8 | 5
Bangladesh | 8 | 8 | 5
Barbados | 6 |  | 5
Belarus | 5 |  | 5
Belgium | 3 | 3 | 3
Belize | 6 | 6 | 5
Benin | 8 | 8 | 5
Bermuda | 6 |  | 5
Bhutan | 8 |  | 5
Bolivia | 6 | 6 | 5
Bosnia-Herzegovina | 5 |  | 5
Botswana | 8 |  | 5
Brazil | 6 | 6 | 5
British Virgin Islands | 6 |  | 5
Brunei Darussalam | 7 |  | 5
Bulgaria | 5 | 5 | 5
Burkina Faso | 8 | 8 | 5
Burma (Myanmar) | 8 |  | 5
Burundi | 8 |  | 5
Cambodia | 7 |  | 5
Cameroon | 8 | 8 | 5
Canada | 1 | 1 | 1
Cape Verde | 8 |  | 5
Cayman | 6 |  | 5
Central African Republic | 8 | 8 | 5
Chad | 8 |  | 5
Chile | 6 | 6 | 5
China | 7 | 7 | 5
Colombia | 6 | 6 | 5
Comoros Islands | 8 |  | 5
Congo (Brazzaville), Republic of the | 8 |  | 5
Congo (Kinshasa), Democratic Republic of the | 8 | 8 | 5
Costa Rica | 6 | 6 | 5
Cǒd'Ivoire (Ivory Coast) | 8 | 8 | 5
Croatia | 5 |  | 5
Cuba | 6 | 6 | 5
Cyprus | 8 |  | 5
Czech Republic | 5 | 5 | 5
Denmark | 3 | 3 | 3
Djibouti | 8 |  | 5
Dominica | 6 |  | 5
Dominican Republic | 6 | 6 | 5
Ecuador | 6 | 6 | 5
Egypt | 8 | 8 | 5
El Salvador | 6 | 6 | 5
Equatorial Guinea | 8 |  | 5
Eritrea | 8 |  | 5
Estonia | 5 |  | 5
Ethiopia | 8 | 8 | 5
Falkland Islands | 6 |  | 5
Faroe Islands | 5 |  | 3
Fiji | 7 | 7 | 5
Finland | 3 | 3 | 3
France (Includes Corsica & Monaco) | 3 | 3 | 3
French Guiana | 6 | 6 | 5
French Polynesia (Includes Tahiti) | 7 |  | 5
Gabon | 8 | 8 | 5
Gambia | 8 |  | 5
Georgia, Republic of | 8 |  | 5
Germany | 3 | 3 | 3
Ghana | 8 | 8 | 5
Gibraltar | 3 |  | 3
Great Britain and Northern Ireland | 3 | 3 | 3
Greece | 3 | 3 | 3
Greenland | 3 |  | 3
Grenada | 6 |  | 5
Guadeloupe | 6 |  | 5
Guatemala | 6 | 6 | 5
Guinea | 8 |  | 5
Guinea-Bissau | 8 |  | 5
Guyana | 6 | 6 | 5
Haiti | 6 | 6 | 5
Honduras | 6 | 6 | 5
Hong Kong | 7 | 7 | 5
Hungary | 5 | 5 | 5
Iceland | 3 | 3 | 3
India | 8 | 8 | 5
Indonesia (Includes East Timor) | 7 | 7 | 5
Iran | 8 | 8 | 5
Iraq | 8 |  | 5
Ireland | 3 | 3 | 3
Israel | 3 | 3 | 3
Italy | 3 | 3 | 3
Jamaica | 6 | 6 | 5
Japan | 4 | 4 | 4
Jordan | 8 | 8 | 5
Kazakhstan | 8 |  | 5
Kenya | 8 | 8 | 5
Kiribati | 7 |  | 5
Korea, Dem. People's Rep. of (North) | 7 |  | 5
Korea, Republic of (South) | 7 | 7 | 5
Kuwait | 8 | 8 | 5
Kyrgyzstan | 5 |  | 5
Laos | 7 |  | 5
Latvia | 5 |  | 5
Lebanon | 8 | 8 | 5
Lesotho | 8 |  | 5
Liberia | 8 |  | 5
Libya | 8 |  | 5
Liechtenstein | 3 | 3 | 3
Lithuania | 5 |  | 5
Luxembourg | 3 | 3 | 3
Macao | 5 |  | 5
Macedonia, Republic of | 5 |  | 5
Madagascar | 8 | 8 | 5
Malawi | 8 |  | 5
Malaysia | 7 | 7 | 5
Maldives | 8 |  | 5
Mali | 8 | 8 | 5
Malta | 8 |  | 5
Martinique | 6 |  | 5
Mauritania | 8 | 8 | 5
Mauritius | 8 | 8 | 5
Mexico | 2 | 2 | 2
Moldova | 8 |  | 5
Mongolia | 7 |  | 5
Montserrat | 6 |  | 5
Morocco | 8 | 8 | 5
Mozambique | 8 | 8 | 5
Namibia | 8 |  | 5
Nauru | 7 |  | 5
Nepal | 7 |  | 5
Netherlands | 3 | 3 | 3
Netherlands Antilles | 6 | 6 | 5
New Caledonia | 7 |  | 5
New Zealand | 4 | 4 | 4
Nicaragua | 6 | 6 | 5
Niger | 8 | 8 | 5
Nigeria | 8 | 8 | 5
Norway | 3 | 3 | 3
Oman | 8 | 8 | 5
Pakistan | 8 | 8 | 5
Panama | 6 | 6 | 5
Papua New Guinea | 7 | 7 | 5
Paraguay | 6 | 6 | 5
Peru | 6 | 6 | 5
Philippines | 7 | 7 | 5
Pitcairn Island | 7 |  | 5
Poland | 5 | 5 | 5
Portugal (Includes Azores & Madeira Islands) | 3 | 3 | 3
Qatar | 8 | 8 | 5
Reunion | 8 | 8 | 5
Romania | 5 | 5 | 5
Russia | 5 | 5 | 5
Rwanda | 8 |  | 5
Saint Christopher (St. Kitts) and Nevis | 6 |  | 5
Saint Helena | 8 |  | 5
Saint Lucia | 6 |  | 5
Saint Pierre & Miquelon | 6 |  | 5
Saint Vincent and the Grenadines | 6 |  | 5
San Marino | 3 |  | 3
Sao Tome and Principe | 5 |  | 5
Saudi Arabia | 8 | 8 | 5
Senegal | 8 | 8 | 5
Serbia-Montenegro (Yugoslavia) | 5 |  | 5
Seychelles | 8 |  | 5
Sierra Leone | 8 |  | 5
Singapore | 7 | 7 | 5
Slovak Republic (Slovakia) | 5 |  | 5
Slovenia | 5 |  | 5
Solomon Islands | 7 |  | 5
Somalia | 8 |  | 5
South Africa | 8 | 8 | 5
Spain (Includes Canary Islands) | 3 | 3 | 3
Sri Lanka | 8 | 8 | 5
Sudan | 8 | 8 | 5
Suriname | 6 | 6 | 5
Swaziland | 8 |  | 5
Sweden | 3 | 3 | 3
Switzerland | 3 | 3 | 3
Syria | 8 | 8 | 5
Taiwan | 7 | 7 | 5
Tajikistan | 8 |  | 5
Tanzania | 8 | 8 | 5
Thailand | 7 | 7 | 5
Togo | 8 | 8 | 5
Tonga | 7 |  | 5
Trinidad and Tobago | 6 | 6 | 5
Tristan da Cunha | 8 |  | 5
Tunisia | 8 | 8 | 5
Turkey | 5 | 5 | 5
Turkmenistan | 5 |  | 5
Turks and Caicos Islands | 6 |  | 5
Tuvalu | 7 |  | 5
Uganda | 8 | 8 | 5
Ukraine | 8 |  | 5
United Arab Emirates | 8 | 8 | 5
Uruguay | 6 | 6 | 5
Uzbekistan | 8 |  | 5
Vanuatu | 7 |  | 5
Vatican City | 3 |  | 3
Venezuela | 6 | 6 | 5
Vietnam | 7 |  | 5
Wallis and Futuna Islands | 7 |  | 5
Western Samoa | 7 |  | 5
Yemen | 8 | 8 | 5
Zambia | 8 | 8 | 5
Zimbabwe | 8 | 8 | 5

Stanley F. Mires,
Chief Counsel, Legislative.

[FR Doc. 01-25987 Filed 10-15-01; 8:45 am]

BILLING CODE 7710-12-P